DEPARTMENT OF ENERGY

Federal Energy Regulatory Commission

[Project No. 15274-000]

Hurricane Cliffs PSH, LLC; Notice of Preliminary Permit Application Accepted for Filing and Soliciting Comments, Motions To Intervene, and Competing Applications

On April 22, 2022, Hurricane Cliffs PSH, LLC filed an application for a preliminary permit, pursuant to section 4(f) of the Federal Power Act (FPA), proposing to study the feasibility of the Hurricane Cliffs Pumped Storage Project to be located approximately 8 miles south of Hurricane, Utah. The sole purpose of a preliminary permit, if issued, is to grant the permit holder priority to file a license application during the permit term. A preliminary permit does not authorize the permit holder to perform any land-disturbing activities or otherwise enter upon lands or waters owned by others without the owners' express permission.

The proposed project would be primarily located on Bureau of Land Management land and consist of the following: (1) a new upper reservoir at a normal maximum operating elevation of 4,270 feet average mean sea level, with a surface area of 200 acres and a total storage capacity of 3,920 acre-feet; (2) a new lower reservoir at a normal maximum operating elevation of 3,550 feet average mean sea level, with a surface area of 125 acres and a total storage capacity of 4,200 acre-feet; (3) a new 1,500-foot-long low-pressure tunnel, 570-foot-long vertical shaft, 1,440-foot-long high pressure tunnel, two 600-foot-long buried headrace pipes, and a 2,700-foot-long tailrace tunnel or channel connecting the two reservoirs with a maximum head of 1,230 feet; (3) a new 300-foot-long, 100-foot-wide, and 50-foot-high powerhouse complex comprised of three 85-foot-diameter shafts, each 250 feet deep and housing a 166.6 megawatt reversible pump-turbine unit, and a subsurface powerhouse building; (4) a new 25.3-mile-long (alternative A), or 25.9 mile-long (alternative B), 345-kilovolt (kV) transmission line connecting the powerhouse to PacifiCorp's Purgatory Flat substation; and (7) appurtenant facilities. The estimated annual power generation at the Hurricane Cliffs Pumped Storage Project would be 876,000 megawatt-hours.

Applicant Contact: Matthew Shapiro, rPlus Hydro, LLLP, 201 S. Main St. Ste. 2100, Salt Lake City, Utah, 84111; phone: (208) 246-9925; mshapiro@rplushydro.com.

FERC Contact: Benjamin Mann; email: benjamin.mann@ferc.gov; phone: (202) 502-8127.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15274.

More information about this project, including a copy of the application, can be viewed or printed on the “eLibrary” link of Commission's website at http://www.ferc.gov/docs-filing/elibrary.asp. Enter the docket number (P-15274) in the docket number field to access the document. For assistance, contact FERC Online Support.

Dated: January 19, 2023.
Kimberly D. Bose,
Secretary.

[FR Doc. 2023-01493 Filed 1-25-23; 8:45 am]

BILLING CODE 6717-01-P